SECURITIES AND EXCHANGE COMMISSION

[Release No. 34-44990; File No. SR-Amex-2001-45]

Self-Regulatory Organizations; Notice of Filing and Order Granting Accelerated Approval of a Proposed Rule Change and Amendment Nos. 1, 2, 3, and 4 by the American Stock Exchange LLC, Relating to Listing Additional Funds of iShares, Inc. Based on Foreign Stock Indexes

October 25, 2001.

Correction

In notice document 01-27524 beginning on page 55712 for Friday, November 2, 2001, the release number for File No. SR-2001-45 was incorrectly stated as 34-44900. The correct release number is 34-44990, as stated above.

For the Commission, by the Division of Market Regulation, pursuant to delegated authority.¹
¹ 17 CFR 200.30-3(a)(12).
Dated: November 5, 2001.
Margaret H. McFarland,
Deputy Secretary.

[FR Doc. 01-28350 Filed 11-9-01; 8:45 am]

BILLING CODE 8010-01-M